DEPARTMENT OF HEALTH AND HUMAN SERVICES

Centers for Disease Control and Prevention

Epidemiologic HIV/AIDS Research Among African American and Hispanic Women at Risk for HIV Infection in the Southern United States and Puerto Rico

Announcement Type: New Cooperative Agreement.

Funding Opportunity Number: PS05-107.

Catalog of Federal Domestic Assistance Number: 93.943.

Key Dates:

Letter of Intent Deadline: July 1, 2005.

Application Deadline: July 18, 2005.

I. Funding Opportunity Description

Authority: Public Health Service Act, Section 317(k)(2) (42 U.S.C. Section 247b(k)(2) as amended.

Background: Since the beginning of the AIDS epidemic, most of the persons identified to be at risk for HIV-1 infection in the United States have been men who have sex with men or injection drug users. However, over the past 15 years, the HIV infection rate among women at heterosexual risk has steadily increased. In 2002, surveillance data demonstrated that heterosexual transmission accounted for most of the AIDS cases reported among U.S. women, particularly affecting women of color in the Southern United States. The rate of AIDS diagnoses among African American women is 48.6 per 100,000 and among those aged 25-44 years, AIDS is the second most frequent cause of death. Hispanic women of the same age group have the second highest mortality rate from AIDS. Limited research data suggest that the character and dynamics of women's sexual relationships may be important determinants of risk, both for engaging in risk behaviors and for doing so with high-risk partners. In addition, their vulnerability is connected to a variety of socioeconomic factors, including delayed access to care and support for HIV/AIDS.

Purpose: The purposes of this project are to support research on the epidemiologic, socio-cultural, structural, psychological, and behavioral factors that promote HIV infection in African American and Hispanic women; and to increase understanding of the factors related to the prevalence of HIV infection, and incidence of recent infection, in these populations. This announcement addresses the “Healthy People 2010” focus areas of HIV and the goals of CDC's HIV prevention strategic plan through 2005.

Measurable outcomes of the program will align with one (or more) of the following performance goal(s) for the National Center for HIV, STD, and TB Prevention (NCHSTP):

• Decrease the number of persons at high risk of acquiring or transmitting HIV infection.

• Increase the proportion of HIV-infected persons who know they are infected.

• Increase the number of HIV-infected persons who are linked to appropriate prevention, care, and treatment services.

• Strengthen the capacity nationwide to monitor the HIV epidemic.

Research Objectives: The program will support four sites to work collaboratively with each other and with CDC investigators in conducting a multi-center cross-sectional study that includes epidemiologic and behavioral electronic data collection through the use of personal digital assistants (PDAs), oral rapid HIV and urine sexually transmitted disease (STD) testing, and a qualitative component among African American and Hispanic women at risk for HIV infection in the Southern United States and Puerto Rico. Applicants should indicate clearly whether their application pertains to Hispanic or African American women. Applicants are also strongly encouraged to propose two site investigators: a junior research investigator as the site primary investigator, who is able to devote at least 30 percent full time effort to the project, and a senior investigator able to devote at least 10 percent full time effort to the project. At each site, awardees will be expected to enroll 300-500 women.

In conducting the research, awardees will be expected to establish a partnership with at least one community-based organization (CBO) to consult on all aspects of conducting the study, and to help link participants to prevention and medical services.

Assessing the prevalence of HIV infection and incidence of early infection is also a central component of the research. Understanding the risk factors associated with recent HIV seroconversion will inform the design of future prevention interventions or programs. In addition to performing rapid oral HIV testing of participants, applicants should be prepared to use standard serologic assays to confirm preliminary positive results and to process and ship specimens from HIV-infected persons to a CDC-designated laboratory facility in New York State for testing by using the Serologic Testing Algorithm for Recent HIV Seroconversion (STARHS) to identify recent seroconversions. Applicants should also indicate how culturally and gender-tailored pre- and post-test counseling and referral to medical care, prevention services, and other services (social, mental health, drug treatment, etc.) will be provided to those in need. After sites are funded, but before research activities begin, awardees and CDC investigators will work collaboratively to refine the protocols so that they fit together as a whole and address the research issues in a scientifically rigorous manner.

Activities: In conducting activities to achieve the purpose of these programs, the awardee will be responsible for the activities listed under “Awardee Activities,” and CDC will be responsible for conducting activities listed under CDC Activities.

Awardee Activities for this program are as follows:

a. Collaborate with other CDC-sponsored researchers, including developing and using common data collection instruments, specimen collection protocols, and data management procedures, as determined in post-award awardee planning conferences. Recipients will be required to pool data for analysis and publication.

b. Attend meeting(s) at CDC to develop collaborative research protocol. Must be prepared to attend first meeting on September 29, 2005.

c. Identify, recruit, obtain informed consent from, and enroll an adequate number of study participants, as determined by the study protocol and the program requirements.

d. Establish procedures to maintain the rights and confidentiality of all study participants.

e. Perform laboratory tests and data analysis as determined in the study protocol.

f. Collaborate and share data and specimens (when appropriate) with other collaborators to answer specific research questions.

g. Conduct data analysis with all collaborators.

h. Present and publish research findings.

i. Participate in conference calls (two per month) with all collaborators.

j. Attend biannual CDC meetings with other funded grantees.

k. Establish a partnership with at least one CBO to consult on all aspects of conducting the study and to help link participants to prevention and medical services.

In a cooperative agreement, CDC staff is substantially involved in the program activities, above and beyond routine grant monitoring.

CDC Activities for this program are as follows:

a. Provide technical assistance as needed in the design and conduct of the research.

b. Facilitate and assist in the development of a research protocol for Institutional Review Board (IRB) review by all cooperating institutions participating in the research project. The CDC IRB will review and approve the protocol initially and on at least an annual basis until the research project is completed.

c. Provide study software and assist in designing data management systems.

d. Assist, as needed, in performance of selected laboratory tests.

e. Assist in the analysis of research information, and the presentation and publication of research findings.

f. Conduct annual site visits.

g. Organize and conduct site investigators' meetings in Atlanta.

II. Award Information

Type of Award: Cooperative Agreement. CDC involvement in this program is listed in the preceding Activities section.

Mechanism of Support: U19.

Fiscal Year Funds: 2005.

Approximate Total Funding: $1,000,000 (This amount is an estimate, and is subject to availability of funds.)

Approximate Number of Awards: Three-Four.

Approximate Average Award: $250,000-$320,000 per site. (This amount is for the first 12-month budget period.)

Funding Preferences: Funding decisions will attempt to achieve ethnic and geographic diversity among the four sites.

Floor of Award Range: None.

Ceiling of Award Range: $320,000.

Anticipated Award Date: August 31, 2005.

Budget Period Length: 12 months.

Project Period Length: Four years.

Throughout the project period, CDC's commitment to continuation of awards will be conditioned on the availability of funds, evidence of satisfactory progress by the recipient (as documented in required reports), and the determination that continued funding is in the best interest of the federal government.

III. Eligibility Information

III.1. Eligible Applicants

Applications may be submitted by public and private nonprofit organizations and by governments or their Bona Fide Agents located in the southern states of Alabama, Arkansas, Delaware, Florida, Georgia, Kentucky, Louisiana, Maryland, Mississippi, North Carolina, Oklahoma, South Carolina, Tennessee, Texas, Virginia, and West Virginia, and in the District of Columbia and the Commonwealth of Puerto Rico:

A Bona Fide Agent is an agency/organization identified by the state as eligible to submit an application under the state eligibility in lieu of a state application. If you are applying as a bona fide agent of a state or local government, you must provide a letter from the state or local government as documentation of your status. Place this documentation behind the first page of your application form.

Selection of the listed states, the District of Columbia, and the Commonwealth of Puerto Rico is based on 2002 surveillance data that demonstrated heterosexual transmission accounted for most AIDS cases reported among U.S. women, particularly affecting women of color in the southern U.S. The rate of AIDS diagnoses among African American women is 48.6 per 100,000 and, among those aged 25-44 years, AIDS is the second most frequent cause of death. Hispanic women of the same age group have the second highest mortality rate from AIDS.

III.2. Cost Sharing or Matching

Matching funds are not required for this program.

III.3. Other

CDC will accept and review applications with budgets greater than the ceiling of the award range.

Special Requirements: If your application is incomplete or nonresponsive to the requirements listed in this section, it will not be entered into the review process. You will be notified that your application did not meet submission requirements.

• Late applications will be considered nonresponsive. See section “IV.3. Submission Dates and Times” for more information on deadlines.

• Applicants must demonstrate research will occur in African American or Hispanic female populations at risk for HIV infection by including in their research proposal applicable data (state/local surveillance or research data) indicating high rates of HIV/AIDS diagnoses among women in the proposed research population.

• Priority will be given to applications that include two site investigators—a senior research investigator (10 percent full time effort) and a junior research investigator (30 percent full time effort, who will serve as the primary site investigator)—with direct links to or involvement with the specified study population.

• Note: Title 2 of the United States Code, Section 1611, states that an organization described in Section 501(c)(4) of the Internal Revenue Code that engages in lobbying activities is not eligible to receive federal funds constituting an award, grant, or loan.

Individuals Eligible to Become Principal Investigators: Any individual with the skills, knowledge, and resources necessary to carry out the proposed research is invited to work with their institution to develop an application for support. Individuals from underrepresented racial and ethnic groups as well as individuals with disabilities are always encouraged to apply for CDC programs.

Additional Principal Investigator qualifications that must be met and demonstrated are: (1) Possession of a research or health-professional doctorate-level degree from an accredited school/program within the past 10 years; (2) knowledge about HIV/AIDS epidemiology and prevention, as well as basic, but minimal, research experience in or related to the field of HIV/AIDS; (3) personal experience working in minority communities, and the ability to access female study populations from these communities; and (4) the ability to establish effective and well-defined working relationships with community advisory boards, community-based organizations, or similar entities that can ensure the appropriateness of proposed research and implementation of the proposed activities.

IV. Application and Submission Information

IV.1. Address To Request Application Package

To apply for this funding opportunity, use application form PHS 398 (OMB number 0925-0001 rev. 9/2005). Forms and instructions are available in an interactive format on the CDC Web site, at the following Internet address: http://www.cdc.gov/od/pgo/forminfo.htm.

Forms and instructions are also available in an interactive format on the National Institutes of Health (NIH) Web site at the following Internet address: http://grants.nih.gov/grants/funding/phs398/phs398.html.

If you do not have access to the Internet, or if you have difficulty accessing the forms online, you may contact the CDC Procurement and Grants Office Technical Information Management Section (PGO-TIM) staff at 770-488-2700. Application forms can be mailed to you.

IV.2. Content and Form of Application Submission

Letter of Intent (LOI): Your LOI must be written in the following format:

• Maximum number of pages: Two

• Font size: 12-point unreduced

• Double spaced

• Paper size: 8.5 by 11 inches

• Page margin size: One inch

• Printed only on one side of page

• Written in plain language, avoid jargon

Your LOI must contain the following information:

• Descriptive title of the proposed research

• Name, address, E-mail address, telephone number, and FAX number of the Principal Investigator

• Names of other key personnel

• Participating institutions

• Number and title of this Announcement

Application: Follow the PHS 398 application instructions for content and formatting of your application. If the instructions in this announcement differ in any way from the PHS 398 instructions, follow the instructions in this announcement. For further assistance with the PHS 398 application form, contact PGO-TIM staff at 770-488-2700.

The research plan should be limited to 25 double-spaced, single-sided pages of 12-point font. All tables, graphs, figures, diagrams, and charts must be included in the 25-page limit. There is no requirement to use all 25 pages; however, the additional pages in proposals exceeding 25 pages will not be read and considered in the scoring. The plan should address activities to be conducted over the entire project period. The narrative, at a minimum, should include a background of HIV/AIDS in the proposed community, research objectives, methods, evaluation, budget, and time line.

In addition to the 25-page narrative, applicants must also include two appendices containing letters of support from community groups and other institutions, and curriculum vitas (CVs) of key personnel.

Applicants should develop and propose in their research plans:

(1) A variety of effective local sampling and recruitment strategies that demonstrate their ability to enroll women at sexual risk of HIV infection.

(2) Explicitly stated conceptual hypotheses, grounded in relevant literature, about what might promote HIV risk or serve as a protective role among African American and Hispanic women; gender and culturally sensitive measures should be incorporated to characterize and assess those hypotheses. These measures may consist of epidemiologic, socio-cultural, structural, psychological, and behavioral factors.

These factors may include, but are not limited to:

• Cultural attitudes and values

• Social and economic discrimination

• Social and sexual networks

• Acculturation, immigration, and ethnic relations

• Family relations

• Community involvement

• Experience with and influence of correctional systems

• Self-esteem

• Resiliency

• Religious beliefs

• Beliefs about HIV disease and its treatment

• HIV testing history and perceived and actual barriers to testing

• Factors influencing their choice of sexual partners

• Risk behavior and bisexual practices among their sexual partners

• Drug use

• Fluidity of risk behavior

• Domestic violence

(3) Methodology for the conduct of both a quantitative epidemiologic survey, as well as a qualitative research survey, with a subset of the women.

(4) Gender and culturally appropriate HIV counseling and testing by using rapid oral testing (see second paragraph below).

(5) Stringent safeguards for protecting confidentiality of research study participants.

You are required to have a Dun and Bradstreet Data Universal Numbering System (DUNS) number to apply for a grant or cooperative agreement from the federal government. Your DUNS number must be entered on line 11 of the face page of the PHS 398 application form. The DUNS number is a nine-digit identification number, which uniquely identifies business entities. Obtaining a DUNS number is easy and there is no charge. To obtain a DUNS number, access www.dunandbradstreet.com or call 1-866-705-5711. For more information, see the CDC Web site at this Internet address: http://www.cdc.gov/od/pgo/funding/pubcommt1.htm.

This announcement uses the non-modular budgeting format.

Additional requirements that may require you to submit additional documentation with your application are listed in section “VI.2. Administrative and National Policy Requirements.”

IV.3. Submission Dates and Times

LOI Deadline Date: July 1, 2005.

CDC requests that you submit a letter of intent (LOI) if you intend to apply for this program. Although the LOI is not required, not binding, and does not enter into the review of your subsequent application, the LOI will be used to gauge the level of interest in this program and allow CDC to plan the application review.

Application Deadline Date: July 18, 2005.

Explanation of Deadlines: LOIs must be received in the CDC Office of Public Health Research (OPHR) and applications must be received in the CDC Procurement and Grants Office by 4 p.m. Eastern Time on the deadline date. If you submit your application by the United States Postal Service or commercial delivery service, you must ensure that the carrier will be able to guarantee delivery by the closing date and time. If CDC receives your submission after the closing date and time because of: (1) Carrier error, when the carrier accepted the package with a guarantee for delivery by the closing date and time, or (2) significant weather delays or natural disasters, you will be given the opportunity to submit documentation of the carrier's guarantee. If the documentation verifies a carrier problem, CDC will consider the submission as having been received by the deadline.

This announcement is the definitive guide on the LOI and application content, submission address, and deadline. It supersedes information provided in the application instructions. If your application does not meet the previously cited deadline, it will not be eligible for review and will be discarded. You will be notified that you did not meet the submission requirements.

CDC will not notify you upon receipt of your submission. If you have a question about the receipt of your LOI or application, first contact your courier. If you still have a question concerning your LOI, contact the OPHR staff at 404-371-5277. If you still have a question about your application, contact the PGO-TIM staff at 770-488-2700. Before calling, please wait two to three days after the submission deadline. This will allow time for submissions to be processed and logged.

IV.4. Intergovernmental Review of Applications

Your application is subject to Intergovernmental Review of Federal Programs, as governed by Executive Order (EO) 12372. This order sets up a system for state and local governmental review of proposed federal assistance applications. You should contact your state single point of contact (SPOC) as early as possible to alert the SPOC to prospective applications, and to receive instructions on your state's process. Click on the following link to get the current SPOC list: http://www.whitehouse.gov/omb/grants/spoc.html.

IV.5. Funding Restrictions

Restrictions, which must be taken into account while writing your budget, are as follows:

• Funds relating to the conduct of research will not be released until the appropriate assurances and Institutional Review Board approvals are in place.

• Reimbursement of pre-award costs is not allowed.

If you are requesting indirect costs in your budget, you must include a copy of your indirect cost rate agreement. If your indirect cost rate is a provisional rate, the agreement should have been in effect less than 12 months.

IV.6. Other Submission Requirements

LOI Submission Address: Submit your LOI by express mail, delivery service, fax, or E-mail to: Mary Lerchen, DrPH (PS05-107), Scientific Review Administrator, CDC/Office of Public Health Research, 1 West Court Square, Suite 7000, Mailstop D-72, Decatur, Georgia 30030, Telephone: 404-371-5277, Fax: 404-371-5215, E-mail: MLerchen@cdc.gov.

Application Submission Address: Submit the original and one hard copy of your application by mail or express delivery service to: Technical Information Management (PS05-107), CDC Procurement and Grants Office, 2920 Brandywine Road, Atlanta, GA 30341.

At the time of submission, four additional copies of the application and all appendices must be sent to: Mary Lerchen, DrPH (PS05-107), Scientific Review Administrator, CDC/Office of Public Health Research, 1 West Court Square, Suite 7000, MS D-72, Decatur, GA 30030, Telephone: 404-371-5277, Fax: 404-371-5215, E-mail: MLerchen@cdc.gov.

Applications may not be submitted electronically at this time.

V. Application Review Information

V.1. Criteria

Applicants are required to provide measures of effectiveness that will demonstrate the accomplishment of the various identified objectives of the cooperative agreement. Measures of effectiveness must relate to the performance goals stated in the “Purpose” section of this announcement. Measures must be objective and quantitative, and must measure the intended outcome. These measures of effectiveness must be submitted with the application and will be an element of evaluation.

The goals of CDC-supported research are to advance the understanding of biological systems, improve the control and prevention of disease and injury, and enhance health. In the written comments, reviewers will be asked to evaluate the application in order to judge the likelihood that the proposed research will have a substantial impact on the pursuit of these goals.

The scientific review group will address and consider each of the following criteria equally in assigning the application's overall score, weighting them as appropriate for each application. The application does not need to be strong in all categories to be judged likely to have major scientific impact and thus deserve a high priority score. For example, an investigator may propose to carry out important work that by its nature is not innovative, but is essential to move a field forward.

The review criteria are as follows:

Significance: Does this study address an important problem? If the aims of the application are achieved, how will scientific knowledge be advanced? What will be the effect of these studies on the concepts or methods that drive this field?

Approach: Are the conceptual framework, design, methods, and analyses adequately developed, well integrated, and appropriate to the aims of the project? Does the applicant acknowledge potential problem areas and consider alternative tactics? Does the applicant have extensive knowledge of the issues faced by the study population; and experience in working with the population? Are there existing linkages to facilitate recruitment from and referral to programs providing services for the study population, and letters of support? Are the plans to involve the study population, their advocates, or service providers in the development of research activities, and to inform them of research results feasible? Is there evidence that the plans for recruitment and outreach for study participants will include establishing partnerships with communities? Is the quality of the review of the scientific literature pertinent to the proposed study? Does the applicant understand the research objectives as evidenced by the quality of the proposed research plan and specific study design? Is the plan feasible to sample, recruit, and enroll study participants in a culturally and linguistically appropriate manner? Does the plan allow for a demographically diverse sample within the African American or Hispanic female populations and conducting multi-venue sampling? Does the plan include collecting both quantitative and qualitative research data? Does the plan protect the rights and confidentiality of all participants? Does the plan include conducting HIV counseling and testing by using oral rapid HIV tests in a culturally and gender-sensitive manner? Has the Clinical Laboratory Improvement Amendments (CLIA) waiver for testing has been received? Does the plan include collecting and testing blood and urine specimens, in addition to ability to store and ship blood specimens? Is there evidence of a plan to establish a partnership with at least one community-based organization (CBO) to consult on aspects of conducting the study, and to link participants with prevention and medical services, as needed? Is there evidence of commitment and cooperation of current and potential partners (e.g., letters of support, memorandums of understanding, and examples of prior collaborations)? Is the time line for conducting the research adequate?

Innovation: Does the project employ novel concepts, approaches or methods? Are the aims original and innovative? Does the project challenge existing paradigms or develop new methodologies or technologies? Is the research original and will it address important gaps in knowledge?

Investigator: Is the investigator appropriately trained and well suited to carry out this work? Is the work proposed appropriate to the experience level of the principal investigator and other researchers (if any)? Does the applicant have the ability to carry out the proposed research as demonstrated by the training, experience, and expertise of the principal investigator and the proposed research team, and organizational setting, including demonstration of ability to collect, manage, and analyze accurate data in a timely manner? Is there a demonstration of epidemiologic, behavioral, clinical, laboratory, administrative, and management expertise needed to conduct the proposed research? Does the principal investigator and staff have experience working with the targeted population of study participants? Does the research team include a staff member with expertise in qualitative data analysis? Are qualified personnel with realistic and sufficient percentage-time commitments available; Are the described duties and responsibilities of project personnel, including clear lines of authority and supervisory capacity over the behavioral, epidemiologic, administrative, clinical, laboratory, data management, and statistical aspects of the research clearly identified. Do staffing plans include, at a minimum, a principal investigator, study coordinator, lab assistant, and several interviewers/outreach workers? Are there at least two site proposed investigators: a junior investigator able to serve as the primary investigator and able to devote at least thirty percent to the project, and a senior investigator able to devote at least ten percent to the project? Can the staff keep pace with the anticipated workload?

Environment: Does the scientific environment in which the work will be done contribute to the probability of success? Do the proposed experiments take advantage of unique features of the scientific environment or employ useful collaborative arrangements? Is there evidence of institutional support? Are the facilities, equipment, data processing and analysis capacity, and systems for management of data security and participant confidentiality? Do you have access to laboratory facilities and are they able to perform confirmatory HIV and STD testing.

Additional Review Criteria: In addition to the above criteria, the following items will be considered in the determination of scientific merit and priority score:

Protection of Human Subjects from Research Risks: Does the application adequately address the requirements of Title 45 CFR Part 46 for the protection of human subjects? The involvement of human subjects and protections from research risk relating to their participation in the proposed research will be assessed.

Inclusion of Women and Minorities in Research: Does the application adequately address the CDC Policy requirements regarding the inclusion of women, ethnic, and racial groups in the proposed research? This includes: (1) The proposed plan for the inclusion of both sexes and racial and ethnic minority populations for appropriate representation; (2) The proposed justification when representation is limited or absent; (3) A statement as to whether the design of the study is adequate to measure differences when warranted; and (4) A statement as to whether the plans for recruitment and outreach for study participants include the process of establishing partnerships with community(ies) and recognition of mutual benefits.

Budget: The reasonableness of the proposed budget and the requested period of support in relation to the proposed research.

V.2. Review and Selection Process

Applications will be reviewed for completeness by the Procurement and Grants Office (PGO) and for responsiveness by OPHR. Incomplete applications and applications that are non-responsive to the eligibility criteria will not advance through the review process. Applicants will be notified that their application did not meet submission requirements.

Applications that are complete and responsive to the announcement will be evaluated for scientific and technical merit by an appropriate peer review group or charter study section convened by OPHR in accordance with the review criteria listed previously. As part of the initial merit review, all applications may:

• Undergo a process in which only those applications deemed to have the highest scientific merit by the review group, generally the top half of the applications under review, will be discussed and assigned a priority score.

• Receive a written critique.

• Receive a second programmatic level review by NCHSTP.

Award Criteria: Award decisions during the programmatic review will be based on the following:

• Scientific merit (as determined by peer review)

• Availability of funds

• Programmatic priorities

• Preference to organizations in the Southern United States and Puerto Rico

V.3. Anticipated Announcement Date and Award Date

August 31, 2005.

VI. Award Administration Information

VI.1. Award Notices

Successful applicants will receive a Notice of Award (NoA) from the CDC Procurement and Grants Office. The NoA shall be the only binding, authorizing document between the recipient and CDC. The NoA will be signed by an authorized Grants Management Officer and mailed to the recipient fiscal officer identified in the application.

Unsuccessful applicants will receive notification of the results of the application review by mail.

VI.2. Administrative and National Policy Requirements

45 CFR Part 74 and Part 92

For more information on the Code of Federal Regulations, see the National Archives and Records Administration at the following Internet address: http://www.access.gpo.gov/nara/cfr/cfr-table-search.html.

The following additional requirements apply to this project:

• AR-1 Human Subjects Requirements

• AR-2 Requirements for Inclusion of Women and Racial and Ethnic Minorities in Research

• AR-4 HIV/AIDS Confidentiality Provisions

• AR-5 HIV Program Review Panel Requirements

• AR-6 Patient Care

• AR-7 Executive Order 12372

• AR-9 Paperwork Reduction Act Requirements

• AR-10 Smoke-Free Workplace Requirements

• AR-11 Healthy People 2010

• AR-12 Lobbying Restrictions

• AR-22 Research Integrity

• AR 24 Health Insurance Portability and Accountability Act Requirements

• AR-25 Release and Sharing of Data

Additional information on these requirements can be found on the CDC Web site at the following Internet address: http://www.cdc.gov/od/pgo/funding/ARs.htm.

VI.3. Reporting

You must provide CDC with an original, plus two hard copies of the following reports:

1. Interim progress report (use form PHS 2590, OMB Number 0925-0001, rev. 9/2004, as posted on the CDC Web site), no less than 90 days before the end of the budget period. The progress report will serve as your non-competing continuation application and must contain the following elements:

a. Current Budget Period Activities Objectives.

b. Current Budget Period Financial Progress.

c. New Budget Period Program Proposed Activity Objectives.

d. Budget.

e. Measures of Effectiveness.

f. Additional Requested Information.

2. Financial status report, no more than 90 days after the end of the budget period.

3. Final financial and performance reports, no more than 90 days after the end of the project period.

These reports must be mailed to the Grants Management Specialist listed in the “Agency Contacts” section of this announcement.

VII. Agency Contacts

We encourage inquiries concerning this announcement.

For general questions, contact: Technical Information Management Section, CDC Procurement and Grants Office, 2920 Brandywine Road, Atlanta, GA 30341, Telephone: 770-488-2700.

For scientific/research issues, contact: Amy L. Sandul, Health Science Administrator, Centers for Disease Control and Prevention, National Center for HIV, STD, and TB Prevention, 1600 Clifton Road, NE, MS E-07, Atlanta, GA 30333, Telephone: 404-639-6485, E-mail: ASandul@cdc.gov.

For questions about peer review, contact: Mary Lerchen, DrPH, Scientific Review Administrator, Centers for Disease Control and Prevention, 1 West Court Square, Suite 7000, MS D-72, Decatur, GA. 30330, Telephone: 404-371-5277, Fax: 404-371-5215, E-mail: mlerchen@cdc.gov.

For financial, grants management, or budget assistance, contact: Merlin Williams, Grants Management Specialist, CDC Procurement and Grants Office, 2920 Brandywine Road, Atlanta, GA 30341, Telephone: 404-498-1918, E-mail: mqw6@cdc.gov.

VIII. Other Information

This announcement and other CDC funding opportunity announcements can be found on the CDC Web site, Internet address: http://www.cdc.gov. Click on “Funding” then “Grants and Cooperative Agreements.”

Dated: May 24, 2005.
Alan A. Kotch,
Acting Deputy Director, Procurement and Grants Office, Centers for Disease Control and Prevention.

[FR Doc. 05-10856 Filed 5-31-05; 8:45 am]

BILLING CODE 4163-18-P